INTERNATIONAL TRADE COMMISSION

[Investigation No. 332-604]

Andean Trade Preference Act: Impact on U.S. Industries and Consumers and on Drug Crop Eradication and Crop Substitution

AGENCY: United States International Trade Commission.

ACTION: Notice of opportunity to submit information relating to matters to be addressed in the Commission's 21st report on the impact of the Andean Trade Preference Act (ATPA).

SUMMARY: Section 206 of the ATPA requires the Commission to report biennially to Congress and the President by September 30 of each reporting year on the economic impact of the ATPA on U.S. industries and U.S. consumers, and on the effectiveness of the ATPA in promoting drug-related crop eradication and crop substitution efforts by beneficiary countries.

DATES:

September 10, 2024: Deadline for filing written submissions.

September 30, 2024: Transmittal of Commission report to Congress and the President.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Co-Project Leaders Erika Bethmann (202-205-3001 or erika.bethmann@usitc.gov) or Wen Jin “Jean” Yuan (202-205-2383 or Wen.Yuan@usitc.gov) for information specific to this investigation. For information on the legal aspects of this investigation, contact Brian Allen (202-205-3034 or brian.allen@usitc.gov) or William Gearhart (202-205-3091 or william.gearhart@usitc.gov) of the Commission's Office of the General Counsel. The media should contact Jennifer Andberg, Office of External Relations (202-205-3404 or jennifer.andberg@usitc.gov). Hearing-impaired individuals are advised that information on this matter can be obtained by contacting the Commission's TDD terminal on 202-205-1810. General information concerning the Commission may be obtained by accessing its internet address (https://www.usitc.gov). Persons with mobility impairments who will need special assistance in gaining access to the Commission should contact the Office of the Secretary at 202-205-2000.

SUPPLEMENTARY INFORMATION:

Background: Section 206 of the Andean Trade Preference Act (ATPA) (19 U.S.C. 3204) requires that the Commission submit biennial reports to Congress and the President regarding the economic impact of the ATPA on U.S. industries and consumers and, in conjunction with other agencies, the effectiveness of the ATPA in promoting drug-related crop eradication and crop substitution efforts of the beneficiary countries. Section 206(b) of the ATPA requires that each report include:

(1) the actual effect of the ATPA on the U.S. economy generally as well as on specific domestic industries which produce articles that are like, or directly competitive with, articles being imported under the ATPA from beneficiary countries;

(2) the probable future effect that the ATPA will have on the U.S. economy generally and on such domestic industries before the provisions of the ATPA terminate; and

(3) the estimated effect that the ATPA has had on drug-related crop eradication and crop substitution efforts of beneficiary countries.

Under the statute, the Commission is required to prepare this report regardless of whether duty-free treatment or other preferential treatment was provided during the period covered by the report. During the period to be covered by this report, calendar years 2022 and 2023, no imports entering the United States received preferential treatment under the ATPA.

The Commission does not plan to hold a public hearing in conjunction with this investigation. The Commission will submit its report by September 30, 2024. The notice announcing institution of the investigation for the purpose of preparing the first report under the statute was published in the Federal Register of March 10, 1994 (59 FR 11308). Notice providing opportunity to file written submissions in connection with the 20th report was published in the Federal Register of July 20, 2022 (85 FR 31209).

Written submissions: Interested persons are invited to file written submissions concerning this investigation. All written submissions should be addressed to the Secretary, and should be received no later than 5:15 p.m., September 10, 2024. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person, paper-based filings or paper copies of any electronic filings will be accepted until further notice. Persons with questions regarding electronic filing should contact the Office of the Secretary, Docket Services Division (202-205-1802), or consult the Commission's Handbook on Filing Procedures.

Definitions of types of documents that may be filed; Requirements: This notice provides for the possible filing of one type of document: written submissions.

Written submissions refers to any written submissions that interested persons wish to make and may include new information or updates of information previously provided.

In accordance with the provisions of section 201.8 of the Commission's Rules of Practice and Procedure (19 CFR 201.8), the document must identify on its cover (1) the investigation number and title and the type of document filed (i.e., written submission), (2) the name and signature of the person filing it, (3) the name of the organization that the submission is filed on behalf of, and (4) whether it contains confidential business information (CBI). If it contains CBI, it must comply with the marking and other requirements set out below in this notice relating to CBI. Submitters of written documents are encouraged to include a short summary of their position or interest at the beginning of the document, and a table of contents when the document addresses multiple issues.

Confidential business information: Any submissions that contain CBI must also conform to the requirements of section 201.6 of the Commission's Rules of Practice and Procedure (19 CFR 201.6). Among other things, section 201.6 of the rules requires that the cover of the document and the individual pages be clearly marked as to whether they are the “confidential” or “nonconfidential” version, and that the CBI is clearly identified by means of brackets. All written submissions, except for CBI, will be made available for inspection by interested persons.

The Commission will not include any CBI in the report that it sends to Congress and the President. However, all information, including CBI, submitted in this investigation may be disclosed to and used by: (i) the Commission, its employees and Offices, and contract personnel (a) for developing or maintaining the records of this or a related proceeding, or (b) in internal investigations, audits, reviews, and evaluations relating to the programs, personnel, and operations of the Commission, including under 5 U.S.C. Appendix 3; or (ii) U.S. government employees and contract personnel for cybersecurity purposes. The Commission will not otherwise disclose any CBI in a way that would reveal the operations of the firm supplying the information.

Summaries of views of interested persons: Interested persons wishing to have a summary of their views included in the report should include a summary with a written submission on or before September 10, 2024, and must use the Commission template, which can be downloaded from https://www.usitc.gov/docket_services/documents/firm_or_organization_summary_word_limit.pdf. The Commission template must be uploaded as a separate attachment with the written submission, which is filed on EDIS under the document type “Briefs and Written Submissions.” The summary may not exceed 500 words and should not include any CBI. The summary will be published as provided only if it utilizes the Commission-provided template, meets these requirements, and is germane to the subject matter of the investigation. The Commission will list the name of the organization furnishing the summary and will include a link where the written submission can be found.

By order of the Commission.
Issued: August 19, 2024.
Lisa Barton,
Secretary to the Commission.

[FR Doc. 2024-19135 Filed 8-23-24; 8:45 am]

BILLING CODE 7020-02-P